SMALL BUSINESS ADMINISTRATION

[Declaration of Disaster #3525]

State of Florida

Sarasota County and the contiguous counties of Charlotte, DeSoto, and Manatee in the State of Florida constitute a disaster area due to damages caused by severe storms and flooding that occurred June 19 through June 30, 2003. Applications for loans for physical damage as a result of this disaster may be filed until the close of business on September 15, 2003 and for economic injury until the close of business on April 15, 2004 at the address listed below or other locally announced locations:

U.S. Small Business Administration, Disaster Area 2 Office, One Baltimore Place, Suite 300, Atlanta, GA 30308.

The interest rates are:

| Percent
For Physical Damage:
Homeowners with credit available elsewhere | 5.625
Homeowners without credit available elsewhere | 2.812
Businesses with credit available elsewhere | 5.906
Businesses and non-profit organizations without credit available elsewhere | 2.953
Others (including non-profit organizations) with credit available elsewhere | 5.500
For Economic Injury:
Businesses and small agricultural cooperatives without credit available elsewhere | 2.953

The number assigned to this disaster for physical damage is 352511. For economic injury, the number is 9W2800.

(Catalog of Federal Domestic Assistance Program Nos. 59002 and 59008)
Dated: July 15, 2003.
Hector V. Barreto,
Administrator.

[FR Doc. 03-18582 Filed 7-21-03; 8:45 am]

BILLING CODE 8025-01-P